DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Resource and Training Center on Homelessness and Mental Illness—New

The Substance Abuse and Mental Health Services Administration's (SAMHSA), Center for Mental Health Services (CMHS) and the Health Resources and Services Administration (HRSA) will fund an evaluation of the Policy Academies on Chronic Homelessness held in 2002, 2003, and 2004. These Policy Academies were sponsored by the U.S. Department of Human Services (HHS) in partnership with the U.S. Department of Veterans Affairs, U.S. Department of Labor and the U.S. Department of Housing and Urban Development. The Policy Academies were 3-4 day meetings designed to help teams of State, Territory and local policymakers develop Action Plans intended to improve access to mainstream services for people who are homeless.

This evaluation will assess the effectiveness of the Policy Academies in helping States and Territories address the problem of chronic homelessness. This evaluation has been conceptualized in two parts. The process evaluation will focus on the activities related to conducting the Policy Academies. The process evaluation interviews will focus on: (1) How the Policy Academy concept was developed, (2) how the Federal Partners implemented the Policy Academies, (3) what factors influenced the effectiveness of each step of the intervention (i.e., pre-Academy site visits, Policy Academy meetings, and post-Academy technical assistance), (4) what changes in the Policy Academy process occurred over time, (5) what challenges/barriers Federal Partners faced in the development and implementation of the Policy Academies, and (6) how future Policy Academies could be improved to better meet the needs of States and Territories. The process evaluation will include all 45 States and Territories that participated in one of the Policy Academies on Chronic Homelessness, as well as the three Pacific Territories (American Samoa, Commonwealth of the Northern Marianas Islands, and Guam,) that participated in a special series of Policy Academies on Homelessness held in American Samoa and Guam.

The second part, the outcome evaluation, will assess how successful State, Territory, and local policymakers have been in implementing the Action Plans that were developed at the Policy Academies. The outcome evaluation interviews will focus on: (1) How States and Territories put together their Policy Academy teams, (2) the content and overall quality of the Action Plans these teams developed, (3) to what extent States and Territories have been able to increase access to coordinated housing and mainstream services for persons experiencing homelessness, (4) what challenges/barriers States and Territories faced in trying to achieve short- and long-term goals, and (5) to what extent relationships among the Governor's office, legislators, key program administrators, and public and private stakeholders were created or strengthened.

In order to reduce burden on informants, the outcome evaluation will focus on a sample of States and Territories (the 19 States and Territories participating in the last two Policy Academies on Chronic Homelessness and the three Pacific Territories).

Data collection will be conducted over a 12-month period and will include both telephone interviews and site visits. Data collection instruments are semi-structured and will be administered by trained evaluation staff. Telephone interviews will be conducted with state team leaders and other team members. During site visits, in-person interviews will be conducted with team leaders, other team members, and other stakeholders. Both telephone and in-person interview protocols have been adapted to reflect the slightly different Policy Academy process used in the Pacific Territories and to reflect the different needs, funding sources, resources, and service systems in these territories.

The estimated annual response burden to collect this information is as follows:

Instrument | Number of respondents | Responses/ respondent | Burden/ response (hrs) | Annual burden (hrs)
Telephone Interviews (Process Evaluation)
Team Leader Interview | *80 | 1 | 2 | 160
Other Team Member Interview | 64 | 1 | 1.5 | 96
In-Person Interviews (Outcome Evaluation)
Team Leader Interview | *40 | 1 | 2 | 80
Other Team Member Interview | 154 | 1 | 1.5 | 231
Other Stakeholder Interview | 110 | 1 | 1.5 | 165
Total Annual | 448 |  |  | 732
* Some States and Territories have more than one team leader.

Send comments to Summer King, SAMHSA Reports Clearance Officer, Room 71-1045, One Choke Cherry Road, Rockville, MD 20857. Written comments should be received within 60 days of this notice.

Dated: September 2, 2005.
Anna Marsh,
Executive Officer, SAMHSA.

[FR Doc. 05-17983 Filed 9-9-05; 8:45 am]

BILLING CODE 4162-20-P